DEPARTMENT OF DEFENSE

Office of the Secretary

Strategic Environmental Research and Development Program, Scientific Advisory Board; Notice of Meeting

AGENCY: Department of Defense.

ACTION: Notice.

SUMMARY: Under the provisions of the Federal Advisory Committee Act of 1972 (5 U.S.C. Appendix, as amended), the Government in the Sunshine Act of 1976 (5 U.S.C. 552b, as amended), and 41 CFR 102-3.150, the Department of Defense announces an open meeting of the Strategic Environmental Research and Development Program, Scientific Advisory Board (SAB). This notice is published in accordance with Section 10(a)(2) of the Federal Advisory Committee Act (Pub. L. 92-463).

DATES: Thursday, June 13, 2013 from 9:00 a.m. to 4:15 p.m.

ADDRESSES: Virginia Tech Briefing Center—Falls Church Room, 900 North Glebe Road, 2nd Floor, Arlington, VA 22203.

FOR FURTHER INFORMATION CONTACT: Mr. Jonathan Bunger, SERDP Office, 4800 Mark Center Drive, Suite 17D08, Alexandria, VA 22350-3600, by telephone at (571) 372-6384.

SUPPLEMENTARY INFORMATION: The purpose of the June 13, 2013 meeting is to review continuing research and development projects requesting Strategic Environmental Research and Development Program funds in excess of $1 million over the proposed length of the project as required by the SERDP Statute, U.S. Code-Title 10, Subtitle A, Part IV, Chapter 172, § 2904. The full agenda follows:

9:00 a.m. Convene

Mr. Joseph Francis, Chair.

9:05 a.m. Resource Conservation and Climate Change Overview

Dr. John Hall, Resource Conservation and Climate Change Program Manager.

9:15 a.m. 13 RC00-001 (RC-2245): Defense Coastal/Estuarine Research Program (DCERP) (FY13 Follow On)

Dr. Patricia Cunningham, RTI International, Research Triangle Park, NC.

11:15 a.m. Break

11:30 a.m. Energy's Systems Biology Knowledgebase (KBase)

Dr. Susan Gregurick, DOE, Office of Biological and Environmental Research.

12:30 p.m. Lunch

1:30 p.m. Munitions Response Overview

Dr. Herb Nelson, Munitions Response, Program Manager.

1:35 p.m. MR-2104: Real-Time Hand-Held Magnetometer Array (FY13 Re-Brief)

Dr. Mark Prouty, Geometrics, San Jose, CA.

2:20 p.m. Break

2:35 p.m. Wastewater Study

Dr. Judith Barry, Noblis, Seattle, WA.

2:55 p.m. Defense Environmental Restoration Program Study

Ms. Cathy Vogel, Noblis, Atlanta, GA.

3:15 p.m. Chlorinated Solvents Workshop

Dr. Andrea Leeson, Environmental Restoration, Program Manager.

3:35 p.m. Discussion, Future R & D Topics

SAB Members.

4:15 p.m. Public Discussion/Adjourn

Pursuant to 41 CFR 102-3.105(j) and 102-3.140, and section 10(a)(3) of the Federal Advisory Committee Act of 1972, written statements to the committee may be submitted to the committee at any time or in response to an approved meeting agenda.

Dated: May 14, 2013.
Aaron Siegel,
Alternate OSD Federal Register Liaison Officer, Department of Defense.

[FR Doc. 2013-11785 Filed 5-16-13; 8:45 am]

BILLING CODE 5001-06-P